DEPARTMENT OF HEALTH AND HUMAN SERVICES

National Institutes of Health

Center for Scientific Review; Amended Notice of Meeting

Notice is hereby given of a change in the meeting of the Center for Scientific Review Special Emphasis Panel, May 25, 2004, 8:30 a.m. to May 25, 2004, 5 p.m., Hyatt Regency Bethesda, One Bethesda Metro Center, 7400 Wisconsin Avenue, Bethesda, MD, 20814 which was published in the Federal Register on April 29, 69 FR 23517.

The meeting will be held at The Latham Hotel, 3000 M Street, NW., Washington, DC 2007. The date and time remain the same. The meeting is closed to the public.

Dated: May 6, 2004.
LaVerne Y. Stringfield,
Director, Office of Federal Advisory Committee Policy.

[FR Doc. 04-11096 Filed 5-14-04; 8:45 am]

BILLING CODE 4140-01-M